EXPORT—IMPORT BANK OF THE UNITED STATES

Sunshine Act Meeting

ACTION: Notice of a partially open meeting of the Board of Directors of the Export-Import Bank of the United States.

Time and Place: Thursday, July 1, 2004 at 9:30 a.m. The meeting will be held at Ex-Im Bank in Room 1143, 811 Vermont Avenue, NW., Washington, DC 20571

Open Agenda Item: Adoption of Ex-Im Bank's Revised Environmental Procedures & Guidelines and the Nuclear Procedures & Guidelines.

Public Participation: The meeting will be open to public participation for Item No. 1 only.

FOR FURTHER INFORMATION CONTACT: Office of the Secretary, 811 Vermont Avenue, NW., Washington, DC 20571 (Tele. No. 202-565-3957).

Peter B. Saba,
General Counsel.

[FR Doc. 04-14616 Filed 6-23-04; 1:24 pm]

BILLING CODE 6690-01-M